DEPARTMENT OF VETERANS AFFAIRS

[OMB Control No. 2900-0154]

Agency Information Collection (Application for VA Education Benefits) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before June 12, 2008.

ADDRESSES: Submit written comments on the collection of information through http://www.Regulations.gov or to VA's OMB Desk Officer, OMB Human Resources and Housing Branch, New Executive Office Building, Room 10235, Washington, DC 20503 (202) 395-7316. Please refer to “OMB Control No. 2900-0154” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-0154.”

SUPPLEMENTARY INFORMATION:

Titles:

a. Application for VA Education Benefits, VA Form 22-1990.

b. Application for Transfer of Entitlement (TOE), Basic Educational Assistance Under the Montgomery GI Bill, VA Form 22-1990E.

c. Application for VA Education Benefits Under the National Call to Service (NCS) Program, VA Form 22-1990N.

OMB Control Number: 2900-0154.

Type of Review: Revision of a currently approved collection.

Abstract:

a. Claimants complete VA Form 22-1990 to apply for education assistance allowance.

b. Claimants who signed an enlistment contract with the Department of Defense for the National Call to Service program and elected one of the two education incentives complete VA Form 22-1990E.

c. VA Form 22-1990N is completed by claimants who wish to transfer his or her Montgomery GI Bill entitlement their dependents.

An agency may not conduct or sponsor, and a person is not required to respond to a collection of information unless it displays a currently valid OMB control number. The Federal Register Notice with a 60-day comment period soliciting comments on this collection of information was published on February 26, 2008, at page 10335.

Affected Public: Individuals or households.

Estimated Annual Burden: 49,399 hours.

Estimated Average Burden per Respondent: 16.50 minutes.

Frequency of Response: One-time.

Estimated Number of Respondents: 179,631.

Dated: May 2, 2008.
By direction of the Secretary.
Denise McLamb,
Program Analyst, Records Management Service.

[FR Doc. E8-10530 Filed 5-12-08; 8:45 am]

BILLING CODE 8320-01-P